DEPARTMENT OF HEALTH AND HUMAN SERVICES

Announcement of Establishment of the Diabetes Detection Program and Solicitation of Partnering Organizations

AGENCY: Department of Health and Human Services, Office of the Secretary, Office of Public Health and Science.

ACTION: Notice.

SUMMARY: The Department of Health and Human Services (HHS) announces the establishment of the nationwide Diabetes Detection Program, an initiative to be carried out at the local level. HHS seeks both public and private sector partnering organizations to assist in implementation of the project. Potential partners include, but are not limited to: Professional organizations representing medicine, nursing, pharmacy, and other health related professions; diabetes-related nongovernmental organizations; large employers and employer associations; retail pharmacy and/or related pharmacy associations; pharmaceutical and medical device manufacturers and/or related associations; and other health-related organizations such as, hospitals and hospital associations, managed care plans, insurance companies providing coverage for health care, and benefit management organizations. Components of HHS that will be involved in this initiative include the Office of Public Health and Science; the Office of the Assistant Secretary for Public Affairs; the Centers for Disease Control and Prevention; the National Institutes of Health; the Health Resources and Services Administration; the Office of the Surgeon General; and the U.S. Public Health Service Commissioned Corps.

DATES: Organizations and other entities interested in partnering with HHS in furtherance of this initiative should submit notification of their intent by close of business on April 21, 2003.

ADDRESSES: Notifications of interest in partnering should be sent to Elizabeth Majestic, M.P.H., Acting Director, Office of Disease Prevention and Health Promotion, Office of Public Health and Science, Room 738-G, 200 Independence Ave., SW., Washington, DC 20201; (202) 401-6295 (telephone), 202-690-7054 (fax). Notifications may also be submitted by electronic mail to emajestic@osophs.dhhs.gov.

FOR FURTHER INFORMATION CONTACT: Ellis Davis, Office of Disease Prevention and Health Promotion, Office of Public Health and Science, Room 738-G, 200 Independence Ave., SW, Washington, DC 20201; (202) 260-2873 (telephone), 202-690-7054 (fax), edavis@osophs.dhhs.gov.

SUPPLEMENTARY INFORMATION: To further implementation of the Diabetes Detection Program, HHS is seeking partners to participate in the initiative in accordance with their particular interests. For example, state governors, their health departments, and community health centers could initiate detection-based programs to reach those at highest risk for diabetes. Where appropriate, other organizations and entities could collaborate with these state health department and community health center programs, as in the following examples:

• Partnering organizations could participate in a nationwide advertising campaign that would alert the American public to the opportunity for diabetes detection;

• Partnering organizations could participate in the production or distribution of printed materials that will be used by state programs and community health centers responsible for implementing the initiative;

• Employers could adopt the project and conduct detection clinics where people at high risk of diabetes could be identified, then referred for specific diagnosis and followup if warranted;

• Hospitals could provide professional resources to conduct detection clinics;

• Managed care plans could adopt the project and encourage their enrollees to have themselves assessed for risk and alter their lifestyles if the risk warrants;

• Colleges and universities could conduct detection events for their student populations;

• Area agencies on aging could form a component of a statewide program.

Where a statewide program is not in place, partnering organizations such as these could proceed on their own.

Dated: February 28, 2003.
Elizabeth Majestic,
Acting Deputy Assistant Secretary for Health (Disease Prevention and Health Promotion), Department of Health and Human Services.

[FR Doc. 03-5269 Filed 3-5-03; 8:45 am]

BILLING CODE 4150-32-P